DEPARTMENT OF HEALTH AND HUMAN SERVICES

National Institutes of Health

National Cancer Institute; Notice of Meeting

Pursuant to section 10(a) of the Federal Advisory Committee Act, as amended (5 U.S.C. Appendix 2), notice is hereby given of a meeting of the National Cancer Advisory Board.

The meeting will be open to the public, with attendance limited to space available. Individuals who plan to attend and need special assistance, such as sign language interpretation or other reasonable accommodations, should notify the Contact Person listed below in advance of the meeting.

Name of Committee: National Cancer Advisory Board NCAB Subcommittee on Planning and Budget.

Date: July 21, 2005.

Time: 2 p.m. to 4 p.m.

Agenda: To continue subcommittee discussion of possible metrics for research outcomes, communicating research results and plan agendas for upcoming subcommittee meetings.

Place: National Cancer Institute, National Institutes of Health, 6116 Executive Boulevard, Suite 205, Bethesda, MD 20892, (Telephone Conference Call).

Contact Person: Cherie Nichols, Executive Secretary, National Cancer Institute, National Institute of Health, Building 6116, Room 205, Bethesda, MD 20892, (301) 496-5515.

This notice is being published less than 15 days prior to the meeting date due to scheduling conflicts.

Any interested person may file written comments with the committee by forwarding the statement to the Contact Person listed on this notice. The statement should include the name, address, telephone number and when applicable, the business or professional affiliation of the interested person.

Information is also available on the Institute's/Center's home page: deainfo.nci.nih.gov/advisory/ncab.htm, where an agenda and any additional information for the meeting will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: July 12, 2005.
Anthony M. Coelho, Jr.,
Acting Director, Office of Federal Advisory Committee Policy.

[FR Doc. 05-14433 Filed 7-20-05; 8:45 am]

BILLING CODE 4140-01-M